DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 74 FR 52816, dated October 14, 2009) is amended to reflect the reorganization of the Centers for Disease Control and Prevention (CDC). This reorganization is being undertaken to increase scientific capacity; strengthen infrastructure; create efficiencies across the organization; and improve the links between the national centers.

I. Under Part C, Section C-B, Organization and Functions, the following organizational units are deleted in their entirety:

• Office of the Associate Director for Laboratory Science and Safety (CAC)

• Office of the Associate Director for Science (CAS)

• Office of the Associate Director for Minority Health and Health Equity (CAW)

• Office of State, Tribal, Local and Territorial Support (CP)

• Office of Public Health Preparedness and Response (CQ)

II. Under Part C, Section C-B, Organization and Functions, make the following changes:

• Retitle all references to the Office of the Associate Director for Policy (CAQ) to the Office of the Associate Director for Policy and Strategy (CAQ)

• Retitle all references to the Office of Public Health Scientific Services (CP) to the Deputy Director for Public Health Science and Surveillance (CP)

• Retitle all references to the Office of Noncommunicable Diseases, Injury and Environmental Health (CU) to the Deputy Director for Non-Infectious Diseases (CU)

• Retitle all references to the Office of Infectious Diseases (CV) to the Deputy Director for Infectious Diseases (CV)

III. Under Part C, Section C-B, Organization and Functions, insert the following:

• Deputy Director for Public Health Service and Implementation Science (CB): The Deputy Director for Public Health Service and Implementation Science leads, promotes, and facilitates science, programs and policies to identify and respond to public health threats, both domestically and internationally to its components, which are as follows:

○ Center for Global Health (CBB)

○ Center for Preparedness and Response (CBC)

○ Center for State, Tribal, Local and Territorial Support (CBD)

○ Office of Minority Health and Health Equity (CBE)

• Deputy Director for Public Health Science and Surveillance (CP): The Deputy Director for Public Health Science and Surveillance leads, promotes, and facilitates science, surveillance, standards and policies to reduce the burden of diseases in the United States and globally to its components, which are as follows:

○ National Center for Health Statistics (CPC)

○ Center for Surveillance, Epidemiology, and Laboratory Services (CPN)

○ Office of Science (CPP)

○ Office of Laboratory Science and Safety (CPQ)

• Deputy Director for Non-Infectious Diseases (CU): The Deputy Director for Non-Infectious Diseases reduces the burden of non-infectious diseases, injuries, birth defects, disabilities and environmental health hazards to its components, which are as follows:

○ National Center on Birth Defects and Developmental Disabilities (CUB)

○ National Center for Chronic Disease Prevention and Health Promotion (CUC)

○ National Center for Environmental Health/Agency for Toxic Substances and Disease Registry (CUG)

○ National Center for Injury Prevention and Control (CUH)

• Deputy Director for Infectious Diseases (CV): Deputy Director for Infectious Diseases leads, promotes, and facilitates science, programs, and policies to reduce the burden of infectious disease in the United States and globally and its components, which are as follows:

○ National Center for Immunization and Respiratory Diseases (CVG)

○ National Center for Emerging and Zoonotic Infectious Diseases (CVL)

○ National Center for HIV/AIDS, Viral Hepatitis, STD and TB Prevention

IV. Delegations of Authority: All delegations and redelegations of authority made to officials and employees of affected organizational components will continue in them or their successors pending further redelegation, provided they are consistent with this reorganization.

Authority: 44 U.S.C. 3101.

Dated: August 17, 2018.
Alex M. Azar II,
Secretary.

[FR Doc. 2018-20835 Filed 9-24-18; 8:45 am]

BILLING CODE 4160-18-P